Proclamation 8580 of October 6, 2010

German-American Day, 2010

By the President of the United States of America

A Proclamation

The American story has been written by those who have come to our shores in search of freedom, opportunity, and the chance at a better life. The German men and women who braved numerous perils to cross the Atlantic long ago left a legacy of millions of Americans of German ancestry who have been an integral part of our national life. On German-American Day, we pay tribute to the role this community has played in shaping America and contributing to our progress and prosperity.

On October 6, 1683, 13 courageous German families arrived in Pennsylvania to start a new life. They began a chapter in the American narrative that has influenced our country in all walks of life, and their resolve lives on in the men, women, and families of German descent who enhance civic engagement, steer our industries, and fortify our Nation’s character. With their dedication and determination, the United States has been a leader in ingenuity and entrepreneurship, and has delivered a message of hope and opportunity that resonates around the world. Today, German Americans innovate and excel as leaders in all sectors of our society.

On this occasion, we honor not only the countless achievements and rich heritage of German Americans, but also the strong ties between Germany and the United States. Our two nations share unbreakable bonds as allies with solemn obligations to one another’s security; values that inspired those brave settlers four centuries ago; and a vision for a safer, freer, more peaceful, more prosperous world.

NOW, THEREFORE, I, BARACK OBAMA, President of the United States of America, by virtue of the authority vested in me by the Constitution and the laws of the United States, do hereby proclaim October 6, 2010, as German-American Day. I encourage all Americans to learn more about the history of German Americans and reflect on the many contributions they have made to our Nation.

IN WITNESS WHEREOF, I have hereunto set my hand this sixth day of October, in the year of our Lord two thousand ten, and of the Independence of the United States of America the two hundred and thirty-fifth.

[FR Doc. 2010-25721

Filed 10-8-10; 8:45 am]

Billing code 3195-W1-P